DEPARTMENT OF HEALTH AND HUMAN SERVICES

Centers for Disease Control and Prevention

Disease, Disability, and Injury Prevention and Control Special Emphasis Panel (SEP) GH20-001, Develop, Implement, and Evaluate Evidence-Based, Innovative Approaches To Prevent, Find, and Cure Tuberculosis in High-Burden Settings; GH20-002, Malaria Operations Research To Improve Malaria Control and Reduce Morbidity and Mortality in Western Kenya; GH20-003, Conducting Public Health Research in Colombia; GH20-004, Conducting Public Health Research in Georgia; and GH20-005, Conducting Public Health Research in South America; Amended Notice of Meeting

Notice is hereby given of a change in the meeting of the Disease, Disability, and Injury Prevention and Control Special Emphasis Panel (SEP)—GH20-001, Develop, Implement, and Evaluate Evidence-based, Innovative Approaches to Prevent, Find, and Cure Tuberculosis in High-Burden Settings; GH20-002, Malaria Operations Research to Improve Malaria Control and Reduce Morbidity and Mortality in Western Kenya; GH20-003, Conducting Public Health Research in Colombia; GH20-004, Conducting Public Health Research in Georgia; and GH20-005, Conducting Public Health Research in South America; April 14-16, 2020, 9:00 a.m.- 2:00 p.m., EDT, in the amended FRN.

The teleconference, which was published in the Federal Register on April 1, 2020, Vol. 85, No. 63, page 18243, is being amended to change the meeting dates and times to: April 14-15, 2020, from 9:00 a.m.-2:00 p.m., EDT. The meeting is closed to the public.

FOR FURTHER INFORMATION CONTACT: Hylan Shoob, Ph.D., Scientific Review Officer, Center for Global Health, CDC, 1600 Clifton Road NE, Atlanta, Georgia 30329-4027, Telephone (404) 639-4796; HShoob@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-08214 Filed 4-17-20; 8:45 am]

BILLING CODE 4163-18-P